DEPARTMENT OF COMMERCE

International Trade Administration

[Docket No. 060920244-6244-01]

Solicitation of Applications for United States Destination Web Site Research, Development, Implementation and Marketing

AGENCY: International Trade Administration (ITA), Department of Commerce (DOC).

ACTION: Notice and request for applications.

SUMMARY: The International Trade Administration's (ITA) Office of Travel and Tourism Industries (OTTI) announces the availability of funds for a cooperative agreement for the purpose of providing content and information, through a newly designed and implemented Web site, or by enhancing an existing Web site, on the United States as a premier destination to international inbound travelers from five key markets: United Kingdom, Japan, Canada, Mexico, and Germany. It is envisioned that the award recipient will use funding to conduct market research for each country on the site's international target audience. It is envisioned that this Web site will be the benchmark U.S. travel and tourism information portal for international travelers to the United States. The Web site will encompass information on all components of the U.S. travel and tourism industry, which include, but is not limited to, destinations, attractions, natural resources, dining and lodging facilities, and transportation companies.

ITA will make one award, in the form of a cooperative agreement, in the amount of approximately $3,600,000.

DATES: Applications must be received by 4 p.m. eastern Daylight Saving Time on November 14, 2006. Applications received after the closing date and time will not be considered.

ADDRESSES: Proposals must be submitted to International Trade Administration, Office of Travel and Tourism Industries, U.S. Department of Commerce, HCHB 1003, Washington, DC 20230 attn: Julie Heizer or via e-mail to: julie.heizer@mail.doc.gov. The full funding opportunity announcement and the application kit for this request for applications are available at http://grants.gov, or by contacting Brian Beall on 202-482-5634 or Julie Heizer on 202-482-4904.

FOR FURTHER INFORMATION CONTACT: Interested parties who are unable to access information via Internet or who have questions may contact Mr. Brian Beall by mail (see Addresses), by phone at 202-482-5634, by fax at 202-482-4279 or via e-mail at Brian.Beall@mail.doc.gov, or Ms. Julie Heizer by mail (see ADDRESSES), by phone at 202-482-4904, by fax at 202-482-2997, or via e-mail at julie.heizer@mail.doc.gov.

SUPPLEMENTARY INFORMATION: Electronic Access: The full funding opportunity announcement is available at http://grants.gov or by contacting Brian Beall, see FOR FURTHER INFORMATION CONTACT.

Funding Availability: In fiscal year 2007, approximately $3,600,000 will be available through this announcement for a two-year award period. ITA envisions one award.

Statutory Authority: Pursuant to Section 210 of Public Law 108-7, and Public Law 109-108.

Program Information: The International Trade Administration (ITA) is soliciting applications from organizations to design and implement a consumer Web site (or enhancement to an existing site), which is based on primary and secondary consumer research, that provides content and information on the United States as a premier destination to international inbound travelers. The overall objective of the Web site is to represent the United States as a travel and tourism destination by increasing awareness and positive perception from five identified markets. The five markets represent the largest originating countries for inbound international travelers to the United States and include the United Kingdom, Japan, Canada, Mexico, and Germany.

It is envisioned that this Web site will be the benchmark U.S. travel and tourism information portal for international travelers to the United States. The Web site will encompass information on all components of the U.S. travel and tourism industry. This will include, but is not limited to, destinations, attractions, natural resources, dining and lodging facilities, and transportation companies.

The Web site will provide accurate and timely information regarding the United States as a travel and tourism destination and deliver a coordinated message that communicates the diversity of the American travel product. It will reflect the brand value of the United States, as determined through consumer market research in the target markets, and benefit all regions of the country.

Funding provided by the ITA cooperative agreement is intended to serve the four distinct functions of research, development, implementation, and marketing. Prior to the implementation of the Web site, the grantee will use funding to conduct in-depth market research for each country on the site's international target audience. This will provide insight into the Internet usage habits of the Web site's identified consumers. Through initial market research, the grantee will familiarize itself with consumer demographics and psychographics in the identified international target markets.

Because the funding provided by the cooperative agreement is for a specified period of time only, each applicant must include a detailed plan to maintain and market the Web site once Federal monies are no longer available. Cooperative marketing partnerships are encouraged as one means by which to generate the resources to sustain the Web site into the future once the cooperative agreement period with the Department expires, as well as during the grant period.

Eligibility: Eligible applicants for the program include all for-profit or non-profit, U.S. corporations, associations, organizations, and Native American Tribal Governments (Federally recognized) and state and local Governments.

Award Period: The recipient will have two years from the date listed on the Financial Assistance Award form, CD-450 to expend all funds.

Type of Funding Instrument: Cooperative Agreement.

Cost Share/Matching Requirements: The amount of Federal funds awarded for this cooperative agreement will be approximately $3,600,000 to be disbursed over a two-year period. It is a requisite that the grantee match at least 25% of the awarded Federal funds. The total of the awarded Federal funds plus the amount of the grantee's match will be the project cost. The cost share must be provided by either the applicant or by a third party in the form of cash or in-kind contributions and they must be spent on eligible expenses and are required to be from eligible sources. Applicants must verify and demonstrate in their applications that matching funds are available during the time period of the agreement as the matching funds are required to complete the project.

Intergovernmental Review: Applications under this program are not subject to Executive Order 12372, “Intergovernmental Review of Federal Programs.”

Evaluation and Selection Procedures: After receiving the applications, ITA will screen each one to determine the applicant's eligibility to receive an award. After receiving all eligible applications, a review panel composed of at least three (3) ITA and Industry Representative(s) will individually review the applications applying the Evaluation Criteria below, score them, and forward a ranking to the Deputy Assistant Secretary for Services (DAS). There will be no consensus advice provided by the evaluation panel. From the ranked applications forwarded by the selection panel, the DAS selects the application that will receive funding. In making her decision, the DAS will consider the review panel's evaluations and take into consideration the review panel's ranking. The DAS may deviate from the selection panel's ranked recommendation only based on the following factors: (1) Funding Priorities (see below) and (2) the availability of funds.

Evaluation Criteria: ITA is interested in projects that demonstrate the possibility of both significant results during the award period and lasting benefits extending beyond the award period. All eligible and complete applications will be evaluated based on the following criteria and maximum point allowances. Failure to address any one of the following criteria by the application deadline will result in an application being determined incomplete and the application will not be considered. The total points available are 100.

1. Quality of Work Plan (30%): The evaluation of work plan quality will be based on whether the proposal demonstrates a sound plan that will meet the objectives in a timely and efficient manner. The evaluation will take into consideration how well the steps for executing the plan are defined, the soundness of the proposed steps, the likelihood that they will achieve the intended result, and the soundness and realism of the proposed milestones/timelines. Applicants that propose to enhance an existing website will be evaluated on the same criteria. Factors to be considered include:

(a) The soundness of the research methodology for all markets, to include: Primary and secondary consumer research that tests brand identity for the United States as a travel destination; cultural differences present in individual markets with respect to language and receipt of brand messages; and technical proficiencies and preferences.

(b) The Web site's development and implementation, to include: The overall concept for Web site: the applicant's team past experience in developing and launching international websites in multiple languages; scalability (i.e., the ability to maintain a Web site's availability, reliability, and performance as the amount of simultaneous Web traffic, or load, demands of the host server increases); expandability; approach for correcting faults; improving performance or adapting to changed environments; and content (to include approach for ensuring information is accurate and updated regularly).

(c) The proposed marketing approach for all markets, to include: Past performance and buying power of the identified media company(s) in all markets; the soundness of the approach; and the ability to leverage media buying dollars.

(d) The metrics proposed to evaluate performance, to include: Unique visitors; the part of site that is being visited; the number of linking sites; the identities of referring sites; the number and extent of joint promotions; and data provided by Internet consumer surveys to gauge user satisfaction with areas such as, but not limited to, usability, content, and functionality. All data provided should include performance analysis and insight, both of which would assist in making adjustments, if appropriate.

(e) The proposed timelines and milestones for the website's required research, development, design, implementation, marketing, and success measurement.

(f) The plan for securing and reflecting input from the U.S. Department of Commerce in the development of brand identify, Web site look and feel, policy regarding content and on-going content review and revisions.

2. Management Plan, Capabilities and Experience, and Personnel Qualifications (40%): The quality of the management plan, the qualifications of the proposed personnel, and the applicant's capabilities and past performance relevant to this project will be evaluated in terms of:

(a) The overall organizational capabilities and experience of the applicant and its identified partners.

(b) An assessment of the relevancy and adequacy of the number, qualifications, past experience and staffing mix, and proposed roles for staff that will be involved (note that resumes for proposed personnel will facilitate in the evaluation of the relevancy, competency and experience of proposed staff).

(c) The management control approach, progress measurements, reporting system, and the project plan that reflects milestones and deliverables needed to meet the objectives of the project.

(d) The ability to mobilize industry partners for content, offers, and future investment.

(e) The demonstration of prior experience managing international marketing campaigns that promote travel and tourism and previous experience with multi-language execution.

(f) An assessment of the applicants' previous performance/experience and success with similar programs, including an assessment of previous website design, development, and implementation.

(g) An assessment of the applicant's previous performance/experience with primary and secondary consumer market research.

3. Budget and Sustainability (30%): The factors of budget and sustainability include the reasonableness of the itemized budget for project activities, the amount of cost share/matching requirements that is available, the applicant's plan to maintain the Web site after the award period, and the probability that the project can be continued on a self-sustained basis after the completion of the cooperative agreement.

The three criteria together constitute the application score. The total possible points are 100.

Funding Priorities: Preference may be given to applications during the selection process which address the following:

1. Applicants with the ability to expand the positive affects of the Web site to industries that directly benefit from increased travel to the United States. These include, but are not limited to, retail, sports, and entertainment.

2. Knowledge and understanding of the U.S. and global travel and tourism industry and its direct and indirect sectors.

3. Applicants that provide more than 25 percent cost share/match.

The Department of Commerce Pre-Award Notification Requirements for Grants and Cooperative Agreements: The Department of Commerce Pre-Award Notification for Grants and Cooperative Agreements contained in the Federal Register notice of December 30, 2004 (69 FR 78389) are applicable to this solicitation.

Paperwork Reduction Act: This document contains collection-of-information requirements subject to the Paperwork Reduction Act (PRA). The use of Standard Forms 424, 424A, 424B, SF-LLL and CD 346 have been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for this notice concerning grants, benefits, and contracts (5 U.S.C. 553(a)(2)). Because notice and opportunity for comments are not required pursuant to 5 U.S.C. 553 or any other law, the analytical requirements for the Regulatory Flexibility Act (5 U.S.C. 601 et seq.) are inapplicable. Therefore, a regulatory flexibility analysis has not been done.

Dated: September 29, 2006.
Helen N. Marano,
Director, Office of Travel & Tourism Industries.

[FR Doc. E6-16491 Filed 10-4-06; 8:45 am]

BILLING CODE 3510-DR-P